DEPARTMENT OF COMMERCE

National Oceanic and Atmospheric Administration

RIN 0648-XA348

Endangered Species; File No. 16174

AGENCY: National Marine Fisheries Service (NMFS), National Oceanic and Atmospheric Administration (NOAA), Commerce.

ACTION: Notice; receipt of application.

SUMMARY: Notice is hereby given that Michael Salmon, PhD, Florida Atlantic University, 777 Glades Road, P.O. Box 3091, Boca Raton, FL 33431, has applied in due form for a permit to take green sea turtles (Chelonia mydas) for purposes of scientific research.

DATES: Written, telefaxed, or e-mail comments must be received on or before May 5, 2011.

ADDRESSES: The application and related documents are available for review by selecting Records Open for Public Comment from the Features box on the Applications and Permits for Protected Species (APPS) home page, https://apps.nmfs.noaa.gov, and then selecting File No. 16174 from the list of available applications.

These documents are also available upon written request or by appointment in the following offices:

Permits, Conservation and Education Division, Office of Protected Resources, NMFS, 1315 East-West Highway, Room 13705, Silver Spring, MD 20910; phone (301) 713-2289; fax (301) 713-0376; and

Southeast Region, NMFS, 263 13th Avenue South, Saint Petersburg, FL 33701; phone (727) 824-5312; fax (727) 824-5309.

Written comments on this application should be submitted to the Chief, Permits, Conservation and Education Division:

• By e-mail to NMFS.Pr1Comments@noaa.gov (include the File No. in the subject line of the email),

• By facsimile to (301) 713-0376, or

• At the address listed above.

Those individuals requesting a public hearing should submit a written request to the Chief, Permits, Conservation and Education Division at the address listed above. The request should set forth the specific reasons why a hearing on this application would be appropriate.

FOR FURTHER INFORMATION CONTACT: Colette Cairns or Amy Hapeman, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

Dr. Salmon proposes to characterize juvenile green turtle abundance and distribution in nearshore developmental habitats off the East coast of southern Florida. Annually, up to 30 green sea turtles would be captured by hand, transported to shore, measured, weighed, photographed, passive integrated transponder and flipper tagged, temporarily carapace marked, satellite tagged, held overnight, transported to site of capture, released, and recaptured at the conclusion of the study for gear removal. No mortalities would be authorized under the permit. The permit would be valid for 5 years from the date of issuance.

Dated: March 31, 2011.
P. Michael Payne,
Chief, Permits, Conservation and Education Division, Office of Protected Resources, National Marine Fisheries Service.

[FR Doc. 2011-8069 Filed 4-4-11; 8:45 am]

BILLING CODE 3510-22-P